ENVIRONMENTAL PROTECTION AGENCY

[EPA-HQ-OECA-2009-0494; FRL-9942-05-OEI]

Information Collection Request Submitted to OMB for Review and Approval; Comment Request; Tips and Complaints Regarding Environmental Violations (Renewal)

AGENCY: Environmental Protection Agency (EPA).

ACTION: Notice.

SUMMARY: The Environmental Protection Agency has submitted an information collection request (ICR), “Tips and Complaints Regarding Environmental Violations (Renewal)” (EPA ICR No. 2219.05, OMB Control No. 2020-0032) to the Office of Management and Budget (OMB) for review and approval in accordance with the Paperwork Reduction Act (44 U.S.C. 3501 et seq.). This is a proposed extension of the ICR, which is currently approved through April 30, 2016. Public comments were previously requested via the Federal Register 80 FR 67400 on November 2, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 18, 2016.

ADDRESSES: Submit your comments, referencing Docket ID Number EPA-HQ-OECA-2009-0494, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Michael LeDesma, Legal Counsel Division, Office of Criminal Enforcement, Forensics, and Training; Environmental Protection Agency, Building 25, Box 25227, Denver Federal Center, Denver, CO 80025; telephone number: 303-462-9453 or fax number: 303-462-9075; email address: mailto:ledesma.michael@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The Office of Enforcement and Compliance Assurance (OECA) is responsible for administrative, civil and criminal enforcement of the environmental laws that EPA administers. EPA's criminal enforcement and civil enforcement programs are dependent on tips and complaints from concerned citizens and members of the regulated community. The OECA Tips & Complaints Web page provides a convenient means by which these individuals can voluntarily submit tips and complaints regarding suspected violations of environmental law. Tips or complaints received are used by civil and/or criminal enforcement personnel at EPA to determine whether an investigation is warranted into the suspected or alleged misconduct. In some cases, EPA may decide to refer tips or complaints for investigation to other federal agencies or to State or local authorities within whose jurisdiction the matter may appropriately fall. The OECA Tips and Complaints Web page does not replace or otherwise supplant other means of providing tips or complaints to EPA; it merely provides a convenient means by which to supply these tips or complaints. As with complaints provided by phone, fax, or electronic mail, we expect that tippers or complainants are already in the possession of information that leads them to suspect a violation of environmental law when they contact EPA to report the matter. Accordingly, EPA believes that the burden associated with the reporting is merely that arising from the need to read the instructions and type or select information into the appropriate fields.

Form Numbers: None.

Respondents/affected entities: Anyone wishing to file a tip or complaint.

Respondent's obligation to respond: Voluntary.

Estimated number of respondents: 10,286 (total).

Frequency of response: Occasionally.

Total estimated burden: 5,143 hours (per year). Burden is defined at 5 CFR 1320.03(b).

Total estimated cost: $102,242 (per year), includes $0 annualized capital or operation & maintenance costs.

Changes in the Estimates: There is an increase of 542 hours in the total estimated respondent burden compared with the ICR currently approved by OMB. This increase reflects that tips and complaints are being filed at a higher rate, which is a strong indication of the success of this program.

Courtney Kerwin,
Acting Director, Collection Strategies Division.

[FR Doc. 2016-03156 Filed 2-16-16; 8:45 am]

BILLING CODE 6560-50-P